FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—08/20/2001
20012220 | Sumitomo Metal Industrial | Mitsubishi Materials Corporation | Mitsubishi Material Quartz Corp.
|  |  | Mitsubishi Materials Silicon Corp.
20012221 | Mitsubishi Materials Corporation | Sumitomo Metal Industries, Ltd. | K.K. Silicotech, Wakayama Sitix Solar.
|  |  | K.K.
|  |  | K.K. Sitix Service, Sumitomo Sitix Silcon, Inc.
20012234 | HCA Inc | HCA Inc | El Paso Healthcare System, Ltd.
20012246 | The Charles Schwab Corporation | Robin Jackson | Bunker Capital, LLC.
|  |  | J.L. Management, LLC.
20012247 | The Charles Schwab Corporation | Lawrence Leibowitz | J.L. Management, LLC.
20012250 | Brian L. Roberts | Global Sports, Inc | Global Sports, Inc.
20012252 | Hewlett-Packard Company | StorageApps Inc | StorageApps Inc.
20012268 | FleetBoston Financial Corporation | Liberty Mutual Insurance Company | Crabbe Huson Group, Inc.
|  |  | Liberty Asset Management Company.
|  |  | Liberty Funds Group, L.L.C.
|  |  | Liberty Newport Holdings, Limited.
|  |  | Liberty Wagner Asset Management, L.P.
|  |  | Newport Fund Management, Inc.
|  |  | Progress Investment Management Company.
|  |  | WAM Acquisition GP, Inc.
2001227 | ValueClick, Inc | Mediaplex, Inc | Mediaplex, Inc.
20012276 | HCC Insurance Holdings, Inc | Mark E. Rattner | Marshall Rattner, Inc.
20012277 | HCC Insurance Holdings, Inc | David F. Rattner | Marshall Rattner, Inc.
20012283 | Ameritrade Holding Corporation | Deutsche Bank AG | National Discount Brokers Group, Inc.
20012284 | The News Corporation Limited | Golden Books Family Entertainment, Inc., debtor-in-possession | Golden Books Publishing Company, Inc.
Transactions Granted Early Termination—08/21/2001
20012239 | Household International, Inc | Vereniging AEGON | Transamerica Bank N.A.
|  |  | Transamerica Retail Financial Services Corporation.
20012274 | Homestore.com, Inc | Memberworks Incorporated | iPlace, Inc.
20012282 | Deutsche Bank AG | Ameritrade Holding Corporation | Ameritrade Holding Corporation.
20012288 | Massachusetts Mutual Life Insurance Company | Trement Advisors, Inc. | Tremont Advisors, Inc.
Transactions Granted Early Termination—08/22/2001
20012230 | General Electric Company | Data Critical Corporation | Data Critical Corporation.
20012235 | Aid Association for Lutherans | Lutheran Brotherhood | Lutheran Brotherhood.
20012258 | divine, inc | eshare Communication, Inc | eshare Communications, Inc.
20012264 | Xcel Energy Inc | Edison International | Capistrano Cogeneration Company.
|  |  | Eastern Sierra Energy Company.
|  |  | Hanover Energy Company.
Transactions Granted Early Termination—08/23/2001
20012300 | Cadbury Schweppes plc | Eagle Family Foods Holdings, Inc | Eagle Family Foods Holdings, Inc.
Transactions Granted Early Termination—08/24/2001
20011704 | AmeriSource Health Corporation | Bergen Brunswig Corporation | Bergen Brunswig Corporation.
20012225 | UnitedHealth Group Incorporated | Spectera, Inc | Spectera, Inc.
20012226 | Parker Hannifin Corporation | Eaton Corporation | Eaton AC&R, Ltd.
|  |  | Eaton Aeroquip Inc.
20012289 | Motorola, Inc | RiverDelta Networks, Inc | RiverDelta Networks, Inc.
20012292 | Novartis AG | Novo Nordisk A/S | Novo Nordisk A/S.
20012295 | Mirant Corporation | Edison International | EMC del Caribe.
20012297 | Mirant Corporation | Enron Corp | Enron LNG Power (Atlantic) Ltd.
20012299 | APAX Europe V-A LP | Siemens AG | Krauss-Maffei Corporation.
|  |  | Mannesmann Plastics Machinery AG.
|  |  | Netstal Maschinen AG.
|  |  | Van Dorn Corporation.
20012301 | Berkshire Hathaway Inc | XTRA Corporation | XTRA Corporation.
20012306 | SBC Communications Inc | Leap Wireless International, Inc | Cricket Licensee IX, Inc.
20012307 | Boston Ventures Limited Partnership VI | Reed International P.L.C | The Cahners Travel Group.
20012308 | Boston Ventures Limited Partnership IV | Elsevier NV | The Cahners Travel Group.
20012316 | The Right Start, Inc | Zany Brainy, Inc | Zany Brainy, Inc.
20012329 | Eli Lilly and Company | Isis Phamaceuticals, Inc | Isis Pharmaceuticals, Inc.
20012330 | Eli Lilly and Company | Isis Pharmaceuticals, Inc. | Isis Pharmaceuticals, Inc.
Transactions Granted Early Termination—08/27/2001
20012242 | Amphenol Corporation | AB Holdings LLC | AssembleTech, L.P.
Transactions Granted Early Termination—08/28/2001
20012212 | Terex Corporation | CMI Corporation | CMI Corporation
20012279 | Sonoco Products Company | Phoenix Packaging Corporation | Phoenix Packaging Corporation
20012290 | United Overseas Bank Limited | Overseas Union Bank Limited | Overseas Union Bank Limited
Transactions Granted Early Termination—08/29/2001
20012263 | Performance Food Group Company | Mr. Joseph A. Cambi | Springfield Foodservice Corporation
Transactions Granted Early Termination—08/30/2001
20011877 | Reuters Group plc | Bridge Information Systems, Inc. (Debtor-in-Possession) | Bridge Data Co., Bridge Information Systems America, Inc.
|  |  | Bridge Trading Co. UK Ltd., Bridge Trading Co. UK Nominees.
|  |  | Bridge Trading Co., Bridge Trading Co., Asia, Ltd.
|  |  | Bridge Transaction Services Asia Pacific, Ltd.
|  |  | Bridge Transaction Services, Inc., StockVal, Inc.
|  |  | Wall Street on Demand, Inc.
20011878 | Reuters Group plc | Bridge Information Systems, Inc. (Debtor-in-Possession) | Bridge Trading Technologies, Inc. Wall Street on Demand, Inc., StockVal, Inc.
20012287 | Performance Food Group Company | Fresh International Corporation | Fresh International Corporation
20012291 | Sumner M. Redstone | WMS Industries Inc | WMS Industries Inc.
20012313 | Teradyne, Inc | McCown De Leeuw & Co. IV, L.P | Electro Mechanical Solutions, Inc.
20012328 | Marvin M. Schwan Great, Great Grandchildren's Trust | Edwards Holding Corp | Edwards Holding Corp.
Transactions Granted Early Termination—08/31/2001
20012280 | General Electric Company | Westinghouse Air Brake Technologies Corporation | Engine Systems, Inc. G&G Locotronics. MotivePower, Inc. Motor Coils Manufacturing Corp. Wabtec Distribution.
20012315 | Mirant Corporation | Limestone Electron Trust | Shady Hills 20Power Company, L.L.C.
|  |  | West Georgia Generating Company, L.L.C.

FOR FURTHER INFORMATION CONTACT: Sandra M. Peay or Parcellena P. Fielding, Contact Representatives. Federal Trade Commission, Premerger Notification Office, Bureau of Competition, room 303, Washington, DC 20580, (202) 326-3100.

By Direction of the Commission.
Donald S. Clark,
Secretary.

[FR Doc. 01-23232 Filed 9-17-01; 8:45 am]

BILLING CODE 6750-01-M